DEPARTMENT OF DEFENSE

Office of the Secretary

[Docket ID: DoD-2018-OS-0013]

Submission for OMB Review; Comment Request

AGENCY: Office of the Under Secretary of Defense for Acquisition and Sustainment, DoD.

ACTION: 30-Day information collection notice.

SUMMARY: The Department of Defense has submitted to OMB for clearance the following proposal for collection of information under the provisions of the Paperwork Reduction Act.

DATES: Consideration will be given to all comments received by June 29, 2018.

ADDRESSES: Comments and recommendations on the proposed information collection should be emailed to Ms. Jasmeet Seehra, DoD Desk Officer, at oira_submission@omb.eop.gov. Please identify the proposed information collection by DoD Desk Officer, Docket ID number, and title of the information collection.

FOR FURTHER INFORMATION CONTACT: Fred Licari, 571-372-0493, or whs.mc-alex.esd.mbx.dd-dod-information-collections@mail.mil.

SUPPLEMENTARY INFORMATION:

Title; Associated Form; and OMB Number: Certification of Qualified Products; DD Form 1718; OMB Control Number 0704-0487.

Type of Request: Extension.

Number of Respondents: 1,276.

Responses per Respondent: 1.

Annual Responses: 1,276.

Average Burden per Response: 30 minutes.

Annual Burden Hours: 638 hours.

Needs and Uses: The information collection requirement is necessary to obtain, certify, and record qualification of products or processes falling under the DoD Qualification Program. This form is included as an exhibit in an appeal or hearing case file as evidence of the reviewers' products or process qualifications in advance of, and independent of, acquisition.

Affected Public: Business or other for-profit.

Frequency: Biennially.

Respondent's Obligation: Required to obtain or retain benefits.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Mr. Frederick Licari.

Requests for copies of the information collection proposal should be sent to Mr. Licari at whs.mc-alex.esd.mbx.dd-dod-information-collections@mail.mil.

Dated: May 24, 2018.
Shelly E. Finke,
Alternate OSD Federal Register Liaison Officer, Department of Defense.

[FR Doc. 2018-11555 Filed 5-29-18; 8:45 am]

BILLING CODE 5001-06-P